DEPARTMENT OF TRANSPORTATION

Pipeline and Hazardous Materials Safety Administration

Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (September to September 2012).

The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on October 15, 2012.
Donald Burger,
Chief, Special Permits and Approvals Branch.

S.P. No. | Applicant | Regulation(s) | Nature of special permit thereof
MODIFICATION SPECIAL PERMIT GRANTED
6691-M | Matheson Tri-Gas, Inc. Basking Ridge, NJ | 49 CFR 180.209(b)(i) | To modify the special permit to remove Linde's reference within paragraph 7.b. and add additional operational controls.
15267-M | SMI Companies Franklin, LA | 49 CFR 171.8 | To modify the special permit to change the design by removing the 2″ nozzles on the top flange.
11629-M | U.S. Department of Defense Scott AFB, IL | 49 CFR 106; 107; 171-180 | To modify the special permit to authorize the transportation in commerce of additional Division 1.2 and 1.3 hazardous materials.
13102-M | Robertshaw Industrial Products dba Invensys Controls Maryville, TN | 49 CFR 173.150(b); 173.222(c); 173.306(a); 173.322 | To modify the special permit to authorize the transportation in commerce of additional Division 2.1 and 3 hazardous materials.
NEW SPECIAL PERMIT GRANTED
15552-N | POLY-COAT SYSTEMS, INC. Liverpool, TX | 49 CFR 173.240, 173.241, 173.242, 173.243 and 172.244 | To authorize the manufacture, marking, sale and use of fiberglass reinforced plastic (GFRP) as the basic material of construction for DOT-412/407 type cargo tanks. (mode 1)
15580-N | Wisconsin Central Ltd. Homewood, MN | 49 CFR 174.85 | To authorize the positioning of placarded cars without a buffer car. (mode 2)
15660-N | Air Products and Chemicals, Inc. Tamaqua, PA | 49 CFR 180.205 and 173.302a | To authorize a 10-year requalification for DOT-3AL carrying Division 2.1 and 2.2 materials. (modes 1, 2, 3, 4, 5)
15656-N | Korean Air Lines Co. Ltd. (KAL) Arington, VA | 49 CFR 172.101 Column (9B), 172.204(c)(3), 173.27, and 173.30(a)(1) | To authorize the one-time transportation in commerce of certain explosives that are forbidden for transportation by cargo only aircraft. (mode 4)
EMERGENCY SPECIAL PERMIT GRANTED
14483-M | WEW Westerwaekder Eusebwerk Weitefeld Germany | 49 CFR 178.276(b)(1) | To modify the special permit to indicate a fillign level is attached to the manhole lid. (modes 1, 2, 3)
15710-N | USA Jet Airlines, Inc. Belleville, MI, MI | 49 CFR 175.85 | To authorize the transportation in commerce of a Duracell 600HD Portable Power Source, containing a non-spillable battery, by passenger aircraft. (mode 5)
MODIFICATION SPECIAL PERMIT WITHDRAWN
15448-M | U.S. Department of Defense Scott AFB, IL | 49 CFR 172.320, 173.51, 173.56, 173.57 and 173.58 | To modify the special permit to authorize interim hazard classification of Class 4 and 5 materials, and to allow that Ammunication and Explosives (AE) containing Class 1 may be clasified as other than Class 1 dependent on the characteristics of the AE.
1428-M | IDQ operating Inc. Tarrytown, NY | 49 CFR 173.304(d) | To modify the special permit to authorize the wording in paragraph 8.a to be changed from package to packaging would allow the containers to be shipped back to the manufacturer for recycling as a Consumer Commodity ORM-D.
NEW SPECIAL PERMIT WITHDRAWN
15669-N | U.S. Department of Defense Scott Air Force Base, IL | 49 CFR 172.101, Column 1; 176.65; 176.84(c)(2); and 176.136 | To authorize alternate stowage of Class 1 ammunition on United States Navy Container Ships. (mode 3)
DENIED
15504-N | Request by FIBA Technologies, Inc Millbury, MA September 07, 2012 To authorize the manufacture, marking, sale and use of non-DOT specification cylinders for the transportation in commerce of certain compressed gases.

[FR Doc. 2012-25858 Filed 10-22-12; 8:45 am]

BILLING CODE 4909-60-M